DEPARTMENT OF COMMERCE

Bureau of Industry and Security

15 CFR Parts 732, 736, 740, 744, 752, 764, and 772

[Docket No. 040915266-4313-02]

RIN 0694-AC94

Revised “Knowledge” Definition, Revision of “Red Flags” Guidance and Safe Harbor

AGENCY: Bureau of Industry and Security, Commerce.

ACTION: Proposed rule; reopening of comment period.

SUMMARY: This notice reopens the comment period on a proposed rule that would revise the knowledge definition and the “red flags” guidance as well as create a safe harbor from knowledge based violations in the Export Administration Regulations.

DATES: Comments must be received by December 15, 2004.

ADDRESSES: Send comments on this proposed rule to: The Federal eRulemaking Portal: http://www.regulations.gov, via e-mail to rpd2@bis.doc.gov, fax them to 202-482-3355, or on paper to Regulatory Policy Division, Office of Exporter Services, Room 2705, U.S. Department of Commerce, Washington, DC 20230. Refer to Regulation Identification Number 0694-AC94 in all comments.

FOR FURTHER INFORMATION CONTACT: For further information regarding this proposed rule, contact: William Arvin, Office of Exporter Services, at warvin@bis.doc.gov, fax 202-482-3355 or telephone 202-482-2440.

SUPPLEMENTARY INFORMATION: On October 13, 2004, the Bureau of Industry and Security published a proposed rule that would revise the Export Administration Regulations in three ways: Revise the knowledge definition, revise the “red flags” guidance; and create a safe harbor from certain knowledge based violations. The deadline for public comments was November 12, 2004 (69 FR 60829). The Bureau is now reopening the comment period until December 15, 2004, to allow the public more time to comment on this proposed rule.

Dated: November 9, 2004.
Eileen Albanese,
Director, Office of Exporter Services.

[FR Doc. 04-25309 Filed 11-12-04; 8:45 am]

BILLING CODE 3510-33-M